GENERAL SERVICES ADMINISTRATION

[Wildlife Order 186; 4-U-AL-0767]

Public Buildings Services; Mobile Point Light Station, Gulf Shores, AL

Pursuant to section 2 of Pub. L. 537, 80th Congress, approved May 19, 1948 (16 U.S.C. 667c) notice is hereby given that:

1. The General Services Administration transferred 32.34 acres of land and improvements, identified as Mobile Point Light Station, Gulf Shores, AL to the U.S. Fish and Wildlife Service Department of the Interior by transfer letter dated June 12, 2002.

2. The above property was conveyed for wildlife conservation in accordance with the provisions of section 1 of Pub. L. 80-537 (16 U.S.C. 667b), as amended by Pub. L. 92-432.

Dated: September 25, 2002.
Gordon S. Creed,
Assistant Commissioner, Office of Property Disposal.

[FR Doc. 02-25650 Filed 10-8-02; 8:45 am]

BILLING CODE 6820-96-M